DEPARTMENT OF TRANSPORTATION

Federal Motor Carrier Safety Administration

[Docket No. FMCSA-2002-11732]

Agency Information Collection Submission for OMB Review: Financial Responsibility, Trucking and Freight Forwarding

AGENCY: Federal Motor Carrier Safety Administration (FMCSA), DOT.

ACTION: Notice.

SUMMARY: The FMCSA announces that the Information Collection Request (ICR) described in this notice is being sent to the Office of Management and Budget (OMB) for review and approval. On March 26, 2002, FMCSA published a “Notice of Request for Renewal of a Currently Approved Information Collection: Financial Responsibility, Trucking and Freight Forwarding” in the Federal Register. Comments on the proposed information burden were solicited. No comments regarding the ICR were received. We are required to send ICRs to OMB under the Paperwork Reduction Act of 1995.

DATES: Please submit comments by August 26, 2002.

ADDRESSES: Send comments to the Office of Information and Regulatory Affairs, Office of Management and Budget, 725 Seventeenth Street, NW., Washington, DC 20503, Attention: DOT Desk Officer. We particularly request your comments on whether the collection of information is necessary for FMCSA to meet its goal of reducing truck crashes, including whether the information is useful to this goal; the accuracy of the estimate of the burden of the information collection; ways to enhance the quality, utility and clarity of the information collected; and ways to minimize the burden of the collection of information on respondents, including the use of automated collection techniques or other forms of information technology.

FOR FURTHER INFORMATION CONTACT: Ms. Marian Lee, (202) 358-7028, Insurance Compliance Division (MC-ECI), Federal Motor Carrier Safety Administration, U.S. Department of Transportation, 400 Seventh Street, SW., Washington, DC 20590. Office hours are from 7:45 a.m. to 4:15 p.m., e.t., Monday through Friday, except Federal holidays.

SUPPLEMENTARY INFORMATION: Title: Financial Responsibility, Trucking and Freight Forwarding.

OMB Number: 2126-0017.

Background: The Secretary of Transportation (Secretary) is authorized to register for-hire motor carriers of regulated commodities under the provisions of 49 U.S.C. 13902, surface freight forwarders under the provisions of 49 U.S.C. 13903, and property brokers under the provisions of 49 U.S.C. 13904. These persons may conduct transportation services only if they are registered pursuant to 49 U.S.C. 13901. The Secretary has delegated authority pertaining to these registrations to the FMCSA. Registration remains valid only as long as the transportation entities maintain, on file with the FMCSA, evidence of the required levels of insurance coverage pursuant to 49 U.S.C. 13906. Regulations governing financial responsibility requirements are found at 49 CFR part 387.

Forms BMC-91, 91X, and 82 provide evidence of the required coverage for bodily injury and property damage (BI&PD) liability. Forms BMC-34 and 83 establish compliance with cargo liability requirements. Forms BMC-84 and 85 are filed by brokers to comply with the requirement for a $10,000 surety bond or trust fund agreement. Forms BMC-35, 36, and 85 cancel prior filings. Forms BMC-90 and 32 are endorsements that must be attached to BI&PD and cargo insurance policies, respectively, but are not filed with the FMCSA.

Motor carriers can also apply to self-insure BI&PD and/or cargo liability in lieu of filing certificates of insurance or surety bonds with the FMCSA. Form BMC-40 is the application used to apply for self-insurance authority.

Respondents: Motor carriers, freight forwarders, and brokers.

Estimated Burden Per Response: The estimated average burden per response for the BMC-40 is 40 hours. The estimated average burden per response for each of the other forms (BMC-32, 34, 35, 36, 82, 83, 84, 85, 90, 91, and 91X) is 10 minutes per form.

Estimated Total Annual Burden: The estimated total annual burden is 200 hours for the BMC-40 based on 5 filings per year (5 filings per year × 40 hours to complete = 200). The estimated total annual burden for all of the other forms described above is 45,025 hours based on 270,152 filings per year (270,152 filings per year × 10 minutes to complete divided by 60 minutes = 45,025 total burden hours). Therefore, the total burden hour request is 45,225 (200 estimated annual burden hours for the BMC-40 + 45,025 hours for the other forms = 45,225 total burden hours).

Frequency: Certificates of insurance, surety bonds, and trust fund agreements are required when the transportation entity first registers with the FMCSA and then when such coverages are replaced. Notices of cancellation are required only when such certificates of insurance, surety bonds, or trust fund agreements are canceled. Form BMC-40 is generally filed only when a carrier seeks approval to self-insure its BI&PD and/or cargo liability.

Authority: The Paperwork Reduction Act of 1995; 44 U.S.C. chapter 35, as amended; and 49 CFR 1.73.

Issued on: July 19, 2002.
Joseph M. Clapp,
Administrator.

[FR Doc. 02-18919 Filed 7-25-02; 8:45 am]

BILLING CODE 4910-EX-P